DEPARTMENT OF ENERGY

Notice of Availability of Solicitation

AGENCY: Idaho Operations Office, Department of Energy.

ACTION: Notice of availability of solicitation—enhanced geothermal systems project development.

SUMMARY: The U.S. Department of Energy (DOE), Idaho Operations Office, is seeking applications for projects to verify the electrical power generating potential of enhanced geothermal systems (EGS). Concept definition studies will comprise Phase One of this solicitation. Up to ten financial assistance awards, valued at a maximum of $200,000 each, will be made for Phase One. The period of performance for Phase One is anticipated to be four months. Upon evaluation of the results from Phase One, the DOE will select the most promising projects for field validation. Validation will comprise Phase Two of the solicitation.

DATES: The deadline for receipt of applications is 3 p.m. MDT May 24, 2000.

ADDRESSES: Applications should be submitted to: Procurement Services Division, U. S. Department of Energy, Idaho Operations Office, Attention: Elizabeth Dahl [DE-PS07-00ID13913], 850 Energy Drive, MS 1221, Idaho Falls, Idaho 83401-1563.

FOR FURTHER INFORMATION CONTACT: Elizabeth Dahl, Contract Specialist, at dahlee@id.doe.gov.

SUPPLEMENTARY INFORMATION: The statutory authority for this program is the Geothermal Energy Research, Development and Demonstration Act of 1974 (Pub.L. 93-410). The issuance date of Solicitation No. DE-PS07-00ID13913 is on or about April 14, 2000. The solicitation is available in full text via the Internet at the following address: http://www.id.doe.gov/doeid/psd/proc-div.html. Technical and non-technical questions should be submitted in writing to Elizabeth Dahl by e-mail dahlee@id.doe.gov, or facsimile at 208-526-5548 no later than April 21, 2000.

Issued in Idaho Falls on April 7, 2000.
Michael L. Adams,
Acting Director, Procurement Services Division.

[FR Doc. 00-9300 Filed 4-13-00; 8:45 am]

BILLING CODE 6450-01-P